FEDERAL COMMUNICATIONS COMMISSION

47 CFR Part 73

[DA 05-77; MB Docket No. 05-8, RM-11142; MB Docket No. 05-9, RM-11141; MB Docket No. 05-10, RM-11140; MB Docket No. 05-11, RM-11144; MB Docket No. 05-12, RM-11145]

Radio Broadcasting Services; Goldendale, WA, Ione, OR, Monument, OR, Port Angeles, WA, and Ty Ty, GA

AGENCY: Federal Communications Commission.

ACTION: Proposed rule.

SUMMARY: This document proposes five new allotments in Goldendale, WA, Ione, OR, Monument, OR, Port Angeles, WA, and Ty Ty, Georgia. The Audio Division requests comment on a petition filed by Klickitat Broadcasting proposing the allotment of Channel 240A at Goldendale, Washington, as the community's third local aural transmission service. Channel 240A can be allotted to Goldendale in compliance with the Commission's minimum distance separation requirements with a site restriction of 9.3 kilometers (5.8 miles) southeast to avoid a short-spacing to the license site of FM Station KXXO, Channel 241C, Olympia, Washington and the application site of Channel 241C2 at Stanfield, Oregon. The reference coordinates for Channel 240A at Goldendale are 45-46-12 North Latitude and 120-43-48 West Longitude. See Supplementary Information, infra.

DATES: Comments must be filed on or before March 21, 2005, and reply comments on or before April 5, 2005.

ADDRESSES: Federal Communications Commission, 445 Twelfth Street, SW., Washington, DC. 20554. In addition to filing comments with the FCC, interested parties should serve the petitioner, his counsel, or consultant, as follows: John J. McVeigh, Esq., c/o Klickitat Broadcasting, 12101 Blue Paper Trail, Columbia, Maryland 21044-2787, John J. McVeigh, Esq., c/o Plan 9 Broadcasting, 12101 Blue Paper Trail, Columbia, Maryland 21044-2787 and Dan J. Alpert, c/o Sutton Communications Company, The Law Office of Dan J. Alpert, 2120 N. 21st Road, Arlington, Virginia 22201.

FOR FURTHER INFORMATION CONTACT: Rolanda F. Smith, Media Bureau, (202) 418-2180.

SUPPLEMENTARY INFORMATION: This is a synopsis of the Commission's Notice of Proposed Rule Making, MB Docket Nos. 05-8, 05-9, 05-10, 05-11, 05-12, adopted January 26, 2005 and released January 28, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Audio Division requests comments on a petition filed by Klickitat Broadcasting proposing the allotment of Channel 295A at Ione, Oregon, as the community's first local aural transmission service. Channel 295A can be allotted to Ione in compliance with the Commission's minimum distance separation requirements with a site restriction of 12.5 kilometers (7.8 miles) southwest to avoid a short-spacing to the license site of FM Station KEGX, Channel 293C, Richland, Washington. The reference coordinates for Channel 295A at Ione are 45-24-46 North Latitude and 119-55-21 West Longitude.

The Audio Division requests comments on a petition filed by Klickitat Broadcasting proposing the allotment of Channel 266A at Monument, Oregon, as the community's first local aural transmission service. Channel 266A can be allotted to Monument in compliance with the Commission's minimum distance separation requirements at city reference coordinates at 44-49-40 NL and 119-25-12 WL.

The Audio Division requests comment on a petition filed by Plan 9 Broadcasting proposing the allotment of Channel 229A at Port Angeles, Washington as the community's fifth local aural transmission service. Channel 229A can be allotted to Port Angeles in compliance with the Commission's minimum distance separation requirements at city reference coordinates at 48-06-54 North Latitude and 123-26-36 West Longitude. Port Angeles is located within 320 kilometers (199 miles) of the U.S.-Canadian border. Canadian concurrence has been requested, as a specially negotiated short-spaced allotment because the proposed Port Angeles allotment is short-spaced to Canadian Station CJJR-FM, Channel 229C, Vancouver, BC and vacant Channel 230A at Port Renfrew, BC.

The Audio Division requests comment on a petition filed by Sutton Communications Company proposing the allotment of Channel 249A at Ty Ty, Georgia, as the community's first local aural transmission service. Channel 249A can be allotted to Ty Ty in compliance with the Commission's minimum distance separation requirements with a site restriction of 10.8 kilometers (6.7 miles) north to avoid short-spacing to the application site of Station WDMG-FM, Channel 250A, Ambrose, Georgia and license site of Station WRAK-FM, Channel 247C, Bainbridge, Georgia. The reference coordinates for Channel 249A at Ty Ty are 31-34-01 North Latitude and 83-40-07 West Longitude.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Georgia, is amended by adding Ty Ty, Channel 249A.

3. Section 73.202(b), the Table of FM Allotments under Oregon, is amended by adding Ione, Channel 294A and by adding Monument, Channel 266A.

4. Section 73.202(b), the Table of FM Allotments under Washington, is amended by adding Channel 240A at Goldendale and Port Angeles, Channel 229A.

Federal Communications Commission.
John A. Karousos,
Assistant Chief, Audio Division, Media Bureau.

[FR Doc. 05-3063 Filed 2-16-05; 8:45 am]

BILLING CODE 6712-01-P